DEPARTMENT OF THE INTERIOR

National Park Service

National Register of Historic Places; Notification of Pending Nominations

Nominations for the following properties being considered for listing in the National Register were received by the National Park Service before October 14, 2000. Pursuant to section 60.13 of 36 CFR part 60, written comments concerning the significance of these properties under the National Register criteria for evaluation may be forwarded to the National Register, National Park Service, 1849 C St. NW., NC400, Washington, DC 20240. Written comments should be submitted by November 7, 2000.

Carol D. Shull,
Keeper of the National Register.

ARIZONA

Maricopa County

Irving School, 155 N. Center St., Mesa, 00001323

Temple Historic District, Roughly bet. Mesa Dr., Broadway Rd., Hobson and Main Sts., Mesa, 00001321

Yavapai County

Swilling, John (Jack), Rock House, 18768 Mechling Dr., Black Canyon City, 00001322

ARKANSAS

Pope County

Russellville Public Library, 114 E. Third St., Russellville, 00001319

Pulaski County

Bragg Guesthouse, 1615 Cumberland, Little Rock, 00001320

CALIFORNIA

Mono County

Chalfant Petroglyph Site, Address Restricted, Bishop, 00001324

San Bernardino County

Blackwater Well, Address Restricted, Red Mountains, 00001326

Newberry Cave Site, Address Restricted, Newberry Springs, 00001325

CONNECTICUT

New London County

Uncasville School, 310 Norwich-London Turnpike, Montville, 00001327

FLORIDA

Sarasota County

Hiss House, 1300 Westway Dr.,

Sarasota, 00001328

GEORGIA

Fulton County

Western Electric Company Building, 820 Ralph McGill Blvd., Atlanta, 00001329

ILLINOIS

Champaign County

Alpha Delta Pi Sorority House, (Fraternity and Sorority Houses at the Urbana—Champaign Campus of the University of Illinois MPS), 1202 W. Nevada St., Urbana, 00001333

Cook County

Roche, Martin—John Tait House, 3614 S. Martin Luther King Dr., Chicago, 00001338

Uptown Square Historic District, Roughly along Lawrence Ave., and Broadway, Chicago, 00001336

Du Page County

Peabody, Francis Stuyvesant, House, 8 E. Third St., Hinsdale, 00001330

Jackson County

Hennessy, Cornelius, Building, 1023 Chestnut St., Murphysboro, 00001331

Lake County

Ely, Mrs. C. Morse, House, 111 Moffett Rd., Lake Bluff, 00001339

Mercer County

Ives, Gideon, House, 408 E. Jefferson St., New Boston, 00001332

Vermilion County

Adams Building, 139-141 N. Vermilion St., Danville, 00001337

Building at 210-212 West North Street, 210-212 West North St., Danville, 00001334

First National Bank Building, 2-4 N. Vermilion St., Danville, 00001335

MASSACHUSETTS

Middlesex County

Jack's Diner, (Diners of Massachusetts MPS), 901 Main St., Woburn, 00001340

Plymouth County

Field, D.W., Park, Bet. Pond St. and Pleasant St., Brockton, 00001341

Worcester County

Gilman Block, 207-219 Main St., Worcester, 00001342

Worcester Bleach and Dye Works, 60 Fremont St., Worcester, 00001343

PENNSYLVANIA

Allegheny County

Consolidated Ice Company Factory No. 2, 100 43rd St., Pittsburgh, 00001348

Chester County

Goshenville Historic District, Mainly along N. Chester Rd., jct. with Paoli Pike, East Goshen, 00001347

Montgomery County

Knipe—Johnson Farm, 606 DeKalb Pike, Upper Gywnedd Township, 00001346

Philadelphia County

Robeson, Paul, House, 4951 Walnut St., Philadelphia, 00001345

York County

McCalls Ferry Farm, 447 McCalls Ferry Rd., Lower Chanceford Township, 00001344

SOUTH DAKOTA

Aurora County

Hilton House, Main St., White Lake, 00001352

Minnehaha County

Glidden—Martin Hall, 1101 W. 22nd Ave., Sioux Falls, 00001350

Jorden Hall, 1101 W. 22nd St., Sioux Falls, 00001349

Turner County

Turner Township Bridge No. SE-18, (Stone Arch Culverts in Turner County, South Dakota MPS) 459th St., Centerville, 00001351

TENNESSEE

Knox County

Gibbs Drive Historic District, (Knoxville and Knox County MPS) Gibbs Dr., Knoxville, 00001354

Rutherford County

Providence Primitive Baptist Church, 256 Central Valley Rd., Walter Hill, 00001357

Sumner County

South Tunnell Fortifications, (Archeological Resources of the American Civil War in Tennessee MPS) Address Restricted, Gallatin, 00001355

Wilson County

Spring Creek Presbyterian Church, Cainsville, Doaks Crossroads, 00001356

Watertown Commercial Historic District, Roughly along Main St., Depot Ave., and Public Square, Watertown, 00001353

TEXAS

Mills County

Mills County Courthouse, 1011 Fourth St., Goldthwaite, 00001359

Travis County

Austin Daily Tribune Building, 920 Colorado, Austin, 00001358

WISCONSIN

Jefferson County

Waterloo Downtown Historic District, Jct. of Madison and Monroe Sts., Waterloo, 00001360

[FR Doc. 00-27174 Filed 10-20-00; 8:45 am]

BILLING CODE 4310-70-P